DEPARTMENT OF HEALTH AND HUMAN SERVICES

Centers for Disease Control and Prevention

[60Day-26-1072; Docket No. CDC-2025-0752]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a continuing information collection, as required by the Paperwork Reduction Act of 1995. This notice invites comment on a proposed information collection project titled STI Surveillance Network (SSuN). This information collection request is designed to strengthen national and local surveillance capacity for incident, new, and emerging sexually transmitted infections (STIs) by collecting information on patients at risk for STIs and providing more accurate estimates of the burden of disease, incidence of STIs, trends and impact of STIs at the population level.

DATES: CDC must receive written comments on or before February 3, 2026.

ADDRESSES: You may submit comments, identified by Docket No. CDC-2025-0752 by either of the following methods:

Federal eRulemaking Portal: www.regulations.gov. Follow the instructions for submitting comments.

Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

The STI Surveillance Network (SSuN), (OMB Control No. 0920-1072, Exp. 09/30/2026)—Revision—National Center for HIV, Viral Hepatitis, STD, TB Prevention (NCHHSTP), Centers for Disease Control and Prevention (CDC).

Background and Brief Description

The CDC is requesting a Revision of a currently approved information collection request (ICR) titled The STI Surveillance Network (SSuN) for a period of three years. The Revision submitted for this ICR reflects changes to the title of the currently approved ICR, inclusion of Doxycycline Post-exposure Prophylaxis (Doxy PEP) data elements, deletion of multiple data elements no longer required, and an updated anonymous patient clinic survey.

The purpose of the STI Surveillance Network (SSuN) is to enhance national capacity for STI surveillance. While U.S. jurisdictions voluntarily report STI cases to the CDC via the National Notifiable Diseases Surveillance System (NNDSS), these reports often lack essential patient demographics and detailed information on risk behaviors, treatment, co-infections, preventive services, and sexual networks.

SSuN enhances CDC's STI surveillance efforts by:

1. Providing comprehensive behavioral and demographic data on STI cases not available from standard case-based surveillance.

2. Monitoring trends in STI and HIV co-infection, screening, prevention interventions, and healthcare access among patients with gonorrhea or other STIs.

3. Providing an additional sentinel monitoring system for emerging health threats like mpox.

These data help public health authorities better understand STI trends, assess disease burden inequalities, and monitor treatment outcomes and adverse health effects among STI patients.

Data will be transmitted through CDC's Secure Access Management System (SAMS) by the 15 state and local health jurisdictions (eight jurisdictions funded for both Strategy A and B, four Strategy A only jurisdictions, and three Strategy B only jurisdictions) funded to conduct SSuN activities.

The revised project, SSuN Cycle 5 (2024-2029), comprises 15 US local/state health departments. SSuN recipients are funded to conduct either or both of the two core SSuN Strategies: Sentinel surveillance in specialty sexual health clinics (Strategy A) and Enhanced population-based surveillance for persons diagnosed with gonorrhea and adult syphilis (Strategy B). In Strategy A, data is abstracted from existing electronic medical records at 16 participating STI clinics across 12 funded jurisdictions, utilizing information already collected during routine clinical care. This reflects a total of 384 burden hours. These data are sent to the 12 funded health jurisdictions, where they are formatted and deduplicated by data managers into standardized formats. Records are also matched with the jurisdiction's HIV surveillance registry, providing data on HIV co-infection not available from other multi-jurisdictional sources. All patient records are fully de-identified and securely transmitted to the CDC six times a year. Data managers at each of the 16 clinical facilities across 12 jurisdictions receiving funding are responsible for transmitting validated datasets for these activities to CDC every other month. This reflects 2,880 burden hours for Strategy A Health Department data management. Participating Strategy A clinics are also required to administer a one-time clinic patient survey between years 2-5 of the cycle. Clinic patient surveys will be conducted with approximately 3,000 patients across all funded sites for a total of five minutes each, resulting in 250 burden hours.

The second core data collection activity, Strategy B, includes: (1) abstraction, recoding, and reporting of all gonorrhea and syphilis cases in the collaborating jurisdiction; (2) enhanced investigations of a random sample of diagnosed individuals; and (3) Health Department abstraction and registry matching for a complete census of reported cases. Enhanced investigations include clinical data abstraction from providers, registry matching, and brief demographic and behavioral interviews. SSuN recipients implement data collection protocols that provide uniformly coded data on demographics, risk factors, clinical care, laboratory data, and healthcare-seeking behaviors, which are compiled into a national dataset after quality assurance at the CDC. For Activity 1, data managers at participating health jurisdictions are responsible for transmitting validated datasets case datasets to CDC every other month, resulting in 2,640 burden hours. In 2023, there were 187,833 cases of gonorrhea diagnosed and reported across the 11 Strategy B SSuN jurisdictions. Approximately 7%, or 13,148 gonorrhea cases were randomly sampled for enhanced investigation. Over past cycles, approximately 50% of patients contacted for investigations responded; we estimate this will result in 1,083 burden hours for patients with gonorrhea.

The estimated burden hours for this revised collection decreases from the previously approved 7,510 to 7,237 due to decreases in the number of participating clinical sites and expected number of interviews conducted by funded jurisdictions, a result of declines in reported gonorrhea cases. CDC requests OMB approval for an estimated 7,237 annual burden hours. There are no additional costs to respondents other than their time to participate.

Estimated Annualized Burden Hours
Type of respondent | Form name | Number of respondents | Number of responses per respondent | Average hours per response | Total response burden (hours)
Data managers at sentinel STI clinics | Electronic Clinical Record Abstraction | 16 | 6 | 4 | 384
General Public—Adults (persons diagnosed with gonorrhea) | Patient interviews for a random sample of gonorrhea cases | 6,500 | 1 | 10/60 | 1,083
Data Managers: local/state health departments (strategy A) | Data cleaning/validation, HIV registry matching and data transmissions for all activity components | 12 | 6 | 40 | 2,880
Data Managers: local/state health departments (strategy B) | Data cleaning/validation, HIV registry matching and data transmissions for all activity components | 11 | 6 | 40 | 2,640
General Public—Adults (persons presenting for care in STI Clinics) | Clinic patient surveys | 3,000 | 1 | 5/60 | 250
Total |  |  |  |  | 7,237

Jeffrey M. Zirger,
Lead, Information Collection Review Office, Office of Public Health Ethics and Regulations, Office of Science, Centers for Disease Control and Prevention.

[FR Doc. 2025-22009 Filed 12-4-25; 8:45 am]

BILLING CODE 4163-18-P